DEPARTMENT OF THE TREASURY

Internal Revenue Service

26 CFR Part 1

[REG-161695-04]

RIN 1545-BE23

Farmer and Fisherman Income Averaging; Correction

AGENCY: Internal Revenue Service (IRS), Treasury.

ACTION: Correction to notice of proposed rulemaking by cross-reference to temporary regulations.

SUMMARY: This document corrects a notice of proposed rulemaking by cross-reference to temporary regulations (REG-161695-04) that was published in the Federal Register on Tuesday, July 22, 2008 (73 FR 42538) relating to the averaging of farm and fishing income in computing income tax liability.

FOR FURTHER INFORMATION CONTACT: Amy Pfalzgraf, (202) 622-4960 (not a toll-free number).

SUPPLEMENTARY INFORMATION:

Background

The notice of proposed rulemaking by cross-reference to temporary regulations (REG-161695-04) that is the subject of this correction is under section 1301 of the Internal Revenue Code.

Need for Correction

As published, REG-161695-04 contains an error that may prove to be misleading and is in need of clarification.

Correction of Publication

Accordingly, the publication of the proposed rulemaking by cross-reference to temporary regulations (REG-161695-04), which was the subject of FR Doc. E8-16664, is corrected as follows:

On page 42538, column 2, in the preamble, under the caption “For Further Information Contact”, line 2, the language “Amy Pfalzgraf, (202) 622-4950 (not a“ is corrected to read “Amy Pfalzgraf (202) 622-4960 (not a“.

LaNita Van Dyke,
Chief, Publications and Regulations Branch, Legal Processing Division, Associate Chief Counsel, (Procedure and Administration).

[FR Doc. E8-20552 Filed 9-4-08; 8:45 am]

BILLING CODE 4830-01-P